DEPARTMENT OF HEALTH AND HUMAN SERVICES

National Institutes of Health

Interagency Coordinating Committee on the Validation of Alternative Methods Communities of Practice Webinar on Fundamentals of Using Quantitative Structure-Activity Relationship Models and Read-across Techniques in Predictive Toxicology; Notice of Public Webinar; Registration Information

SUMMARY: The Interagency Coordinating Committee on the Validation of Alternative Methods (ICCVAM) announces a public webinar “Fundamentals of Using Quantitative Structure—Activity Relationship Models and Read-Across Techniques in Predictive Toxicology.” The webinar is organized on behalf of ICCVAM by the National Toxicology Program Interagency Center for the Evaluation Alternative Toxicological Methods (NICEATM) and hosted by the U.S. Environmental Protection Agency's (EPA's) National Center for Computational Toxicology (NCCT). Interested persons may participate via Adobe® Connect™. Time is allotted for questions from the audience.

DATES: Webinar: January 26, 2016, 1 p.m. to approximately 2:30 p.m. Eastern Standard Time (EST).

Registration for Webinar: December 18, 2015 until January 26, 2016 at 2:30 p.m.

ADDRESSES: Webinar Web page: http://ntp.niehs.nih.gov/go/commprac-2016.

FOR FURTHER INFORMATION CONTACT: Dr. Warren S. Casey, Director, NICEATM; email: warren.casey@nih.gov; telephone: (919) 316-4729.

SUPPLEMENTARY INFORMATION:

Background: ICCVAM promotes the development and validation of toxicity testing methods that protect human health and the environment while replacing, reducing, or refining animal use. ICCVAM also provides guidance to test method developers and facilitates collaborations that promote the development of new test methods. To address these goals, ICCVAM is organizing a webinar on “Fundamentals of Using Quantitative Structure—Activity Relationship Models and Read-across Techniques in Predictive Toxicology.”

Many commercial and environmental chemicals lack toxicity data necessary for users and risk assessors to make informed decisions about their potential health effects. Computational methods use data about structure, properties, and toxicity from tested chemicals to make predictions about the characteristics of untested chemicals. These include quantitative structure-activity relationship (QSAR) models, which predict the activities of chemicals with unknown properties by relating them to properties of known chemicals, and read-across, which uses toxicity data from a known (source) chemical to predict toxicity for another (target) chemical, usually but not always on the basis of structural similarity. Predictions made using these methods about toxicity of untested chemicals can help set priorities for future in vitro or in vivo testing, ensuring that the most important hazards are characterized first and that testing resources are used efficiently.

The ICCVAM webinar will feature presentations by two experts in the development and application of QSAR models and read-across techniques. Alex Tropsha, Ph.D., associate dean for pharmacoinformatics and data science at the University of North Carolina at Chapel Hill, will discuss fundamentals of QSAR models. Louis (Gino) Scarano, Ph.D., of the EPA's Office of Pollution Prevention and Toxics, will describe read-across techniques and discuss the regulatory applications of QSAR models and read-across techniques.

Webinar and Registration: This webinar is open to the public with time scheduled for questions by attendees following each presentation. Registration for the webinar is required and is open from December 18, 2015, through 2:30 p.m. on January 26, 2016. A link to registration is available at http://ntp.niehs.nih.gov/go/commprac-2016. Registrants will receive instructions on how to access and participate in the webinar in the email confirming their registration.

The preliminary agenda is available at http://ntp.niehs.nih.gov/go/commprac-2016. Interested individuals are encouraged to visit this Web page to stay abreast of the most current webinar information.

Individuals with disabilities who need accommodation to participate in this event should contact Ms. LaCresha Styles at phone: (919) 541-3282 or email: styles.lacresha@epa.gov. TTY users should contact the Federal TTY Relay Service at (800) 877-8339. Requests should be made at least five business days in advance of the event.

Background Information on ICCVAM and NICEATM: ICCVAM is an interagency committee composed of representatives from 15 federal regulatory and research agencies that require, use, generate, or disseminate toxicological and safety testing information. The ICCVAM Authorization Act of 2000 (42 U.S.C. 285l-3) establishes ICCVAM as a permanent interagency committee of the National Institute of Environmental Health Sciences and provides the authority for ICCVAM's involvement in activities relevant to the development of new and revised toxicological tests.

ICCVAM conducts technical evaluations of new, revised, and alternative test methods and testing strategies with regulatory applicability and promotes the scientific validation and regulatory acceptance of test methods that both more accurately assess the safety and hazards of chemicals and products and replace, reduce, or refine (enhance animal well-being and lessen or avoid pain and distress) animal use. ICCVAM acts to ensure that new and revised test methods are validated to meet the needs of federal agencies, to increase the efficiency and effectiveness of federal agency test method review, and to optimize utilization of scientific expertise outside the federal government. Additional information about ICCVAM can be found at http://ntp.niehs.nih.gov/go/iccvam.

NICEATM administers ICCVAM, provides scientific and operational support for ICCVAM activities, and conducts analyses and evaluations and coordinates independent validation studies on novel and high-priority alternative testing approaches. NICEATM and ICCVAM work collaboratively to evaluate new and improved test methods and strategies applicable to the needs of U.S. federal agencies. NICEATM and ICCVAM welcome the public nomination of new, revised, and alternative test methods and strategies for validation studies and technical evaluations. Additional information about NICEATM can be found at http://ntp.niehs.nih.gov/go/niceatm.

Dated: December 15, 2015.
John R. Bucher,
Associate Director, National Toxicology Program.

[FR Doc. 2015-31832 Filed 12-17-15; 8:45 am]

BILLING CODE 4140-01-P